DEPARTMENT OF DEFENSE

Office of the Secretary

Submission for OBM Review; Comment Request

ACTION: Notice.

The Department of Defense has submitted to OMB for clearance, the following proposal for collection of information under the provisions of the Paperwork Reduction Act (44 U.S.C. Chapter 35).

DATES: Consideration will be given to all comments received by December 29, 2005.

Title and OMB Number: Corps of Engineers Civil Works Questionnaires—Generic Clearance; OMB Control Number 0710-0001.

Type of Request: Extension.

Number of Respondents: 185,500.

Responses Per Respondent: 1.

Annual Responses: 185,500.

Average Burden Per Response: 5 minutes (average).

Annual Burden Hours: 17,307.

Needs and Uses: The U.S. Army Corps of Engineers utilizes the data collected from the questionnaire items for planning data to formulate and evaluate alternative water resources development plans, to determine the effectiveness and evaluate the impacts of Corps projects, and in case of the flood damage mitigation, to obtain information on flood damage incurred, whether or not a project is being considered or exists. All survey questionnaires are administered either by face-to-face, mail, or telephone methods. Public surveys are used to gather data for planning and operating Corps projects and facilities and to determine public preferences and satisfaction.

Affected Public: Individuals or households; business or other for-profit; not-for-profit institutions; farms; and state, local or tribal government.

Frequency: On occasion.

Respondent's Obligation: Voluntary.

OMB Desk Officer: Mr. James Laity. Written comments and recommendations on the proposed information collection should be sent to Mr. Laity at the Office of Management and Budget, Desk Officer for DoD, Room 10236, New Executive Office Building, Washington, DC 20503.

DOD Clearance Officer: Ms. Patricia Toppings. Written requests for copies of the information collection proposal should be sent to Ms. Toppings at WHS/ESD/Information Management Division, 1777 North Kent Street, RPN, Suite 11000, Arlington, VA 22209-2133.

Dated: November 21, 2005.
Patricia L. Toppings,
Alternate OSD Federal Register Liaison Officer, Department of Defense.

[FR Doc. 05-23371 Filed 11-28-05; 8:45 am]

BILLING CODE 5001-06-M